DEPARTMENT OF TRANSPORTATION

Office of the Secretary

Notice of Applications for Certificates of Public Convenience and Necessity and Foreign Air Carrier Permits Filed Under Subpart Q During the Week Ending December 8, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-7559.

Date Filed: December 7, 2000.

Due Date for Answers, Conforming Applications, or Motion to Modify Scope: December 19, 2000.

Description: Amended Application of Gemini Air Cargo, Inc. pursuant to DOT Order 2000-9-24 and the Notice Setting Procedural Schedule for New Entrant Applicants, Dated November 24, 2000, Gemini amends its certificate of public convenience and necessity to operate scheduled foreign air transportation of property and mail between points in the United States, on the one hand, and Manaus, Brasilia, Rio de Janeiro, Sao Paulo, Recife, Porto Alegre, Belem, Belo Horizonte, and Salvador de Bahia, Brazil, on the other; and beyond Brazil to Argentina, Uruguay, Paraguay, and Chile.

Docket Number: OST-2000-7559.

Date Filed: December 7, 2000.

Due Date for Answers, Conforming Applications, or Motion to Modify Scope: December 19, 2000.

Description: Amended Application of Evergreen International Airlines, Inc. pursuant to the Department's November 24, 2000 Notice, applies for a certificate of public convenience and necessity to provide scheduled foreign air transportation of property and mail between a point or points in the United States, on the one hand, and Manaus, Brasilia, Rio de Janeiro, Sao Paulo, Recife, Porto Alegre, Belem, Belo Horizonte, and Salvador de Bahia, Brazil, on the other, via intermediate points and beyond Brazil to Argentina, Chile, Uruguay and Paraguay. Evergreen requests in addition (i) an initial allocation of seven weekly frequencies to implement its new Brazil service and (ii) authority to integrate U.S.-Brazil authority with Evergreen's other all-cargo certificate and exemption authority and to commingle traffic on services conducted pursuant to such authority, consistent with applicable agreements between the U.S. and foreign countries. This amended application supersedes the application Evergreen previously filed in this docket on October 12, 2000.

Docket Number: OST-2000-7559.

Date Filed: December 7, 2000.

Due Date for Answers, Conforming Applications, or Motion to Modify Scope: December 19, 2000.

Description: Amended Application of Atlas Air, Inc. pursuant to 49 U.S.C. 41102 and 14 CFR 302.201 et seq., renews its request for a certificate of public convenience and necessity authorizing Atlas to engage in scheduled foreign air transportation of property and mail between a point or points in the United States, on the one hand, and Manaus, Brasilia, Rio de Janeiro, Sao Paulo, Recife, Porto Alegre, Belem, Belo Horizonte and Salvador de Bahia, Brazil, on the other, via intermediate points and beyond Brazil to Argentina, Uruguay, Paraguay and Chile. Atlas seeks authorization to integrate this authority with its other all-cargo certificate and exemption authority, and to commingle traffic and services conducted pursuant to such authority, to the extent consistent with applicable agreements between the United States and foreign countries. Additionally, Atlas requests U.S. designation under the 1989 Air Transport Services Agreement between the United States and Brazil, as amended, and an award of ten weekly U.S.-Brazil all-cargo wide-body frequencies recently declared available for assignment to the fourth designated U.S. cargo airline.

Docket Number: OST-2000-8437.

Date Filed: December 8, 2000.

Due Date for Answers, Conforming Applications, or Motion to Modify Scope: December 29, 2000.

Description: Amendment #1 to the Application of Aerotransporte de Carga Union, S.A. de C.V., request authority to operate charters pursuant to 14 CFR 212.

Docket Number: OST-2000-8505.

Date Filed: December 8, 2000.

Due Date for Answers, Conforming Applications, or Motion to Modify Scope: December 29, 2000.

Description: Application of Delta Air Lines, Inc. pursuant to 49 U.S.C. 41102 and 41108 and subpart B, applies for renewal of its certificate of public convenience and necessity for Route 585, which authorizes Delta to engage in scheduled foreign air transportation of persons, property and mail between the terminal point Los Angeles, California, and the terminal point Tokyo, Japan. Delta further applies for renewal of its allocation of six weekly frequencies to conduct its Los Angeles-Tokyo services.

Docket Number: OST-2000-8506.

Date Filed: December 8, 2000.

Due Date for Answers, Conforming Applications, or Motion to Modify Scope: December 29, 2000.

Description: Application of Delta Air Lines, Inc. pursuant to 49 U.S.C. 41102 and 41108 and subpart B, applies for renewal of its certificate of public convenience and necessity for Route 586, which authorizes Delta to engage in scheduled foreign air transportation of persons, property and mail between the terminal point Portland, Oregon, and the terminal point Nagoya, Japan. Delta further applies for renewal of its allocation of seven weekly frequencies to conduct United States-Nagoya services.

Dorothy Y. Beard,
Federal Register Liaison.

[FR Doc. 01-2460 Filed 1-26-01; 8:45 am]

BILLING CODE 4910-62-P